DEPARTMENT OF COMMERCE

National Oceanic and Atmospheric Administration

RIN 0648-XA897

Fisheries of the South Atlantic and Gulf of Mexico; Southeast Data, Assessment, and Review (SEDAR); Spanish Mackerel and Cobia

AGENCY: National Marine Fisheries Service (NMFS), National Oceanic and Atmospheric Administration (NOAA), Commerce.

ACTION: Notice of SEDAR Workshops for South Atlantic and Gulf of Mexico Spanish mackerel and cobia.

SUMMARY: The SEDAR assessments of the South Atlantic and Gulf of Mexico stocks of Spanish mackerel and cobia will consist of a series of workshops and webinars: a Data Workshop and webinar, an Assessment Workshop and webinars, and a Review Workshop. The data and assessment webinars will be announced in a separate notice. This is the twenty-eighth SEDAR.

DATES: The Data Workshop will take place February 6-10, 2012. The Assessment Workshop will take place May 7-11, 2012. The Review Workshop will take place August 6-10, 2012. See SUPPLEMENTARY INFORMATION for specific dates and times.

ADDRESSES: The Data Workshop will be held at the Marriott Charleston, 170 Lockwood Blvd., Charleston, SC 29403; telephone: (843) 723-3000. The Assessment Workshop will be held at the Courtyard Miami Coconut Grove, 2649 South Bayshore Drive, Miami, FL 33133; telephone: (305) 858-2500. The Review Workshop will be held at the Doubletree by Hilton Atlanta—Buckhead, 3342 Peachtree Road, Atlanta, GA 30326; telephone: (404) 231-1234.

FOR FURTHER INFORMATION CONTACT: Kari Fenske, SEDAR Coordinator, 4055 Faber Place Drive, Suite 201, North Charleston, SC 29405; telephone: (843) 571-4366.

SUPPLEMENTARY INFORMATION: The Gulf of Mexico, South Atlantic, and Caribbean Fishery Management Councils, in conjunction with NOAA Fisheries and the Atlantic and Gulf States Marine Fisheries Commissions have implemented the Southeast Data, Assessment and Review (SEDAR) process, a multi-step method for determining the status of fish stocks in the Southeast Region. SEDAR includes three workshops: (1) Data Workshop, (2) Stock Assessment Workshop and (3) Review Workshop. The product of the Data Workshop is a data report which compiles and evaluates potential datasets and recommends which datasets are appropriate for assessment analyses. The product of the Stock Assessment Workshop is a stock assessment report which describes the fisheries, evaluates the status of the stock, estimates biological benchmarks, projects future population conditions, and recommends research and monitoring needs. The assessment is independently peer reviewed at the Review Workshop. The product of the Review Workshop is a Consensus Summary documenting Panel opinions regarding the strengths and weaknesses of the stock assessment and input data. Participants for SEDAR Workshops are appointed by the Gulf of Mexico, South Atlantic, and Caribbean Fishery Management Councils and NOAA Fisheries Southeast Regional Office and Southeast Fisheries Science Center. Participants include data collectors and database managers; stock assessment scientists, biologists, and researchers; constituency representatives including fishermen, environmentalists, and NGO's; International experts; and staff of Councils, Commissions, and state and Federal agencies. SEDAR 28 Workshop Schedule:

February 6-10, 2012; SEDAR 28 Data Workshop

February 6, 2012: 1 p.m.-8 p.m.; February 7-9, 2012: 8 a.m.-8 p.m.; February 10, 2012: 8 a.m.-1 p.m.

An assessment data set and associated documentation will be developed during the Data Workshop. Participants will evaluate all available data and select appropriate sources for providing information on life history characteristics, catch statistics, discard estimates, length and age composition, and fishery dependent and fishery independent measures of stock abundance.

May 7-11, 2012; SEDAR 28 Assessment Workshop

May 7, 2012: 1 p.m.-8 p.m.; May 8-10, 2012: 8 a.m.-8 p.m.; May 11, 2012: 8 a.m.-1 p.m.

Using datasets provided by the Data Workshop, participants will develop population models to evaluate stock status, estimate population benchmarks and Sustainable Fisheries Act criteria, and project future conditions. Participants will recommend the most appropriate methods and configurations for determining stock status and estimating population parameters. Participants will prepare a workshop report, compare and contrast various assessment approaches, and determine whether the assessments are adequate for submission to the review panel.

August 6-10, 2012; SEDAR 28 Data Workshop

August 6, 2012: 1 p.m.-8 p.m.; August 7-9, 2012: 8 a.m.-8 p.m.; August 10, 2012: 8 a.m.-1 p.m.

The Review Workshop is an independent peer review of the assessment developed during the Data and Assessment Workshops. Workshop Panelists will review the assessment and document their comments and recommendations in a Consensus Summary.

Special Accommodations

These meetings are physically accessible to people with disabilities. Requests for sign language interpretation or other auxiliary aids should be directed to the Council office (see ADDRESSES) at least 10 business days prior to each workshop.

Dated: December 21, 2011.
Tracey L. Thompson,
Acting Director, Office of Sustainable Fisheries, National Marine Fisheries Service.

[FR Doc. 2011-33159 Filed 12-27-11; 8:45 am]

BILLING CODE 3510-22-P